NUCLEAR REGULATORY COMMISSION

10 CFR Parts 1, 19, 20, et al.

RIN 3150-AH11

Minor Errors in Regulatory Text; Correction

AGENCY: Nuclear Regulatory Commission.

ACTION: Final rule; correcting amendments.

SUMMARY: The Nuclear Regulatory Commission (NRC) is publishing this final rule to make a number of minor corrections to its regulations. This rule is necessary to correct omissions, typographical errors, and erroneous citations and references that appear in the NRC's regulations.

EFFECTIVE DATE: December 19, 2002.

FOR FURTHER INFORMATION CONTACT: Michael T. Lesar, Chief, Rules and Directives Branch, Division of Administrative Services, Office of Administration, U.S. Nuclear Regulatory Commission, Washington, DC 20555-0001, telephone 301-415-7163, e-mail mtl@nrc.gov.

SUPPLEMENTARY INFORMATION: This rule is necessary to correct omissions, typographical errors, and erroneous citations and references that appear in title 10, chapter I of the Code of Federal Regulations. As to amendatory instruction number 19, this error is purely typographical and has existed since 1984 when 10 CFR part 51 was republished in the Federal Register on March 12, 1984 (49 FR 9352), with the error being corrected in this rulemaking. In republishing the S-3 rule in 1984, the Commission stated that “no changes have been made in the substantive provisions of the S-3 rule” (49 FR 9364).

Because these amendments involve minor corrections to existing regulations, the NRC has determined that notice and comment under the Administrative Procedure Act, 5 U.S.C. 553(b)(A) and (B), is unnecessary and that good cause exists to dispense with such notice and comment. For these reasons, good cause also exists to dispense with the usual 30-day delay in the effective date. Therefore, the amendments are effective upon their publication in the Federal Register.

Environmental Impact: Categorical Exclusion

The NRC has determined that this final rule is the type of action described in categorical exclusion 10 CFR 51.22(c)(2). Therefore, neither an Environmental Impact Statement nor an environmental assessment has been prepared for this final rule.

Paperwork Reduction Act Statement

This final rule contains no information collection requirements and, therefore, is not subject to the requirements of the Paperwork Reduction Act of 1995 (44 U.S.C. 3501 et seq.).

Regulatory Analysis

A regulatory analysis has not been prepared for this final rule because the final rule makes corrections to the regulations.

Backfit Analysis

The NRC has determined that these amendments do not involve any provision which would impose backfits as defined in 10 CFR chapter I; therefore, a backfit analysis need not be prepared.

List of Subjects

10 CFR Part 1

Organization and functions (government agencies).

10 CFR Part 19

Criminal penalties, Environmental protection, Nuclear materials, Nuclear power plants and reactors, Occupational safety and health, Radiation protection, Reporting and recordkeeping requirements, Sex discrimination.

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 21

Nuclear power plants and reactors, Penalties, Radiation protection, Reporting and recordkeeping requirements.

10 CFR Part 32

Byproduct material, Criminal penalties, Labeling, Nuclear materials, Radiation protection, Reporting and recordkeeping requirements.

10 CFR Part 34

Criminal penalties, Packaging and containers, Radiation protection, Radiography, Reporting and recordkeeping requirements, Scientific equipment, Security measures.

10 CFR Part 39

Byproduct material, Criminal penalties, Nuclear material, Oil and gas exploration—well logging, Reporting and recordkeeping requirements, Scientific equipment, Security measures, Source material, Special nuclear material.

10 CFR Part 51

Administrative practice and procedure, Environmental impact statement, Nuclear materials, Nuclear power plants and reactors, Reporting and recordkeeping requirements.

10 CFR Part 55

Criminal penalties, Manpower training programs, Nuclear power plants and reactors, Reporting and recordkeeping requirements.

10 CFR Part 73

Criminal penalties, Export, Hazardous materials transportation, Import, Nuclear materials, Nuclear power plants and reactors, Reporting and recordkeeping requirements, Security measures.

10 CFR Part 81

Administrative practice and procedure, Inventions and patents.

For the reasons set out in the preamble and under the authority of the Atomic Energy Act of 1954, as amended; the Energy Reorganization Act of 1974, as amended, and 5 U.S.C. 552 and 553, the NRC is adopting the following amendments to 10 CFR parts 1, 19, 20, 21, 32, 34, 39, 51, 55, 73, and 81.

PART 1—STATEMENT OF ORGANIZATION AND GENERAL INFORMATION

1. The authority citation for part 1 continues to read as follows:

Authority: Secs. 23, 161, 68 Stat. 925, 948, as amended (42 U.S.C. 2033, 2201); sec. 29, Pub. L. 85-256, 71 Stat. 579, Pub. L. 95-209, 91 Stat. 1483 (42 U.S.C. 2039); sec. 191, Pub. L. 87-615, 76 Stat. 409 (42 U.S.C. 2241); secs. 201, 203, 204, 205, 209, 88 Stat. 1242, 1244, 1245, 1246, 1248, as amended (42 U.S.C. 5841, 5843, 5844, 5845, 5849); 5 U.S.C. 552, 553; Reorganization Plan No. 1 of 1980, 45 FR 40561, June 16, 1980.

§ 1.5 [Amended]

2. Section 1.5 is amended to read as follows: In § 1.5(b)(2), add “Sam Nunn” between “USNRC,” and “Atlanta”.

PART 19—NOTICES, INSTRUCTIONS AND REPORTS TO WORKERS: INSPECTION AND INVESTIGATIONS

3. The authority citation for part 19 continues to read as follows:

Authority: Secs. 53, 63, 81, 103, 104, 161, 186, 68 Stat. 930, 933, 935, 936, 937, 948, 955, as amended, sec. 234, 83 Stat. 444, as amended, sec. 1701, 106 Stat. 2951, 2952, 2953 (42 U.S.C. 2073, 2093, 2111, 2133, 2134, 2201, 2236, 2282, 2297f); sec. 201, 88 Stat. 1242, as amended (42 U.S.C. 5841); Pub. L. 95-601, sec. 10, 92 Stat. 2951 (42 U.S.C. 5851).

§ 19.17 [Amended]

4. In § 19.17(a), last sentence, the word “modifying” is amended to read “modify”.

PART 20—STANDARDS FOR PROTECTION AGAINST RADIATION

5. The authority citation for part 20 continues to read as follows:

Authority: Secs. 53, 63, 65, 81, 103, 104, 161, 182, 186, 68 Stat. 930, 933, 935, 936, 937, 948, 953, 955, as amended, sec. 1701, 106 Stat. 2951, 2952, 2953 (42 U.S.C. 2073, 2093, 2095, 2111, 2133, 2134, 2201, 2232, 2236, 2297f), secs. 201, as amended, 202, 206, 88 Stat. 1242, as amended, 1244, 1246 (42 U.S.C. 5841, 5842, 5846).

§ 20.1002 [Amended]

6. In § 20.1002, in the first sentence, add “63,” between “61” and “70”.

§ 20.1703 [Amended]

7. In § 20.1703, the introductory text of paragraph (c)(5) is amended by removing “;” and adding a “:” and by removing the word “before”, and paragraph (c)(5)(i) is amended by adding the word “Before” before the word “The” and lower casing the “T” in the word “The”.

Appendix D to Part 20 [Amended]

8. In the address for the U.S. Nuclear Regulatory Commission's Region II office, under the Address column, add “Sam Nunn” between “Region II,” and “Atlanta”.

9. The telephone number for the U.S. Nuclear Regulatory Commission's Region III office “(708) 829-9500” is amended to read “(630) 829-9500”.

PART 21—REPORTING OF DEFECTS AND NONCOMPLIANCE

10. The authority citation for part 21 continues to read as follows:

Authority: Sec. 161, 68 Stat. 948, as amended, sec. 234, 83 Stat. 444, as amended, sec. 1701, 106 Stat. 2951, 2953 (42 U.S.C. 2201, 2282, 2297f); secs. 201, as amended, 206, 88 Stat. 1242, as amended, 1246 (42 U.S.C. 5841, 5846).

Section 21.2 also issued under secs. 135, 141, Pub. L. 97-425, 96 Stat. 2232, 2241 (42 U.S.C. 10155, 10161).

§ 21.21 [Amended]

11. Section 21.21 is amended as follows:

a. In paragraphs (a)(2) and (d)(1), the references to “§ 21.21(c)(5)” are amended to read “§ 21.21(d)(5)”;

b. In paragraph (d)(2) and the introductory paragraph to (d)(3), the references to paragraph “(c)(1)” are amended to read “(d)(1)”.

PART 32—SPECIFIC DOMESTIC LICENSES TO MANUFACTURE OR TRANSFER CERTAIN ITEMS CONTAINING BYPRODUCT MATERIAL

12. The authority citation for part 32 continues to read as follows:

Authority: Secs. 81, 161, 182, 183, 68 Stat. 935, 948, 953, 954, as amended (42 U.S.C. 2111, 2201, 2232, 2233); sec. 201, 88 Stat. 1242, as amended (42 U.S.C. 5841).

§ 32.72 [Amended]

13. In § 32.72(b)(2)(iii), the reference to paragraph “(b)(3)” is amended to read “(b)(4)”.

PART 34—LICENSES FOR INDUSTRIAL RADIOGRAPHY AND RADIATION SAFETY REQUIREMENTS FOR INDUSTRIAL RADIOGRAPHIC OPERATIONS

14. The authority citation for part 34 continues to read as follows:

Authority: Secs. 81, 161, 182, 183, 68 Stat. 935, 948, 953, 954, as amended (42 U.S.C. 2111, 2201, 2232, 2233); sec. 201, 88 Stat. 1242, as amended (42 U.S.C. 5841).

Section 34.45 also issued under sec. 206, 88 Stat. 1246 (42 U.S.C. 5846).

§ 34.27 [Amended]

15. In § 34.27(d), in the first sentence, the phrase “paragraphs (b) and (c)” is amended to read “paragraph (c)”.

PART 39—LICENSES AND RADIATION SAFETY REQUIREMENTS FOR WELL LOGGING

16. The authority citation for part 39 continues to read as follows:

Authority: Secs. 53, 57, 62, 63, 65, 69, 81, 82, 161, 182, 183, 186, 68 Stat. 929, 930, 932, 933, 934, 935, 948, 953, 954, 955, as amended, sec. 234, 83 Stat. 444, as amended (42 U.S.C. 2073, 2077, 2092, 2093, 2095, 2099, 2111, 2112, 2201, 2232, 2233, 2236, 2282); secs. 201, as amended, 202, 206, 88 Stat. 1242, as amended, 1244, 1246 (42 U.S.C. 5841, 5842, 5846).

§ 39.63 [Amended]

17. In § 39.63(h), the reference to “§ 20.205” is amended to read “§ 20.1906”.

PART 51—ENVIRONMENTAL PROTECTION REGULATIONS FOR DOMESTIC LICENSING AND RELATED REGULATORY FUNCTIONS

18. The authority citation for part 51 continues to read as follows:

Authority: Sec. 161, 68 Stat. 948, as amended, sec. 1701, 106 Stat. 2951, 2952, 2953 (42 U.S.C. 2201, 2297f); secs. 201, as amended, 202, 88 Stat. 1242, as amended, 1244 (42 U.S.C. 5841, 5842). Subpart A also issued under National Environmental Policy Act of 1969, secs. 102, 104, 105, 83 Stat. 853-854, as amended (42 U.S.C. 4332, 4334, 4335); and Pub. L. 95-604, title II, 92 Stat. 3033-3041; and sec. 193, Pub. L. 101-575, 104 Stat. 2835 (42 U.S.C. 2243). Sections 51.20, 51.30, 51.60, 51.80, and 51.97 also issued under secs. 135, 141, Pub. L. 97-425, 96 Stat. 2232, 2241, and sec. 148, Pub. L. 100-203, 101 Stat. 1330-223 (42 U.S.C. 10155, 10161, 10168). Section 51.22 also issued under sec. 274, 73 Stat. 688, as amended by 92 Stat. 3036-3038 (42 U.S.C. 2021) and under Nuclear Waste Policy Act of 1982, sec. 121, 96 Stat. 2228 (42 U.S.C. 10141). Sections 51.43, 51.67, and 51.109 also under Nuclear Waste Policy Act of 1982, sec. 114(f), 96 Stat. 2216, as amended (42 U.S.C. 10134(f)).

§ 51.51 Table S-3 [Amended]

19. In § 51.51, Table S-3, in the Total column for the TRU and HLW (deep) line item, the number “¹¹1.1x10” is amended to read as “1.1x10 ⁷”.

PART 55—OPERATORS' LICENSES

20. The authority citation for part 55 continues to read as follows:

Authority: Secs. 107, 161, 182, 68 Stat. 939, 948, 953, as amended, sec. 234, 83 Stat. 444, as amended (42 U.S.C. 2137, 2201, 2232, 2282); secs. 201, as amended, 202, 88 Stat. 1242, as amended, 1244 (42 U.S.C. 5841, 5842).

Sections 55.41, 55.43, 55.45, and 55.59 also issued under sec. 306, Pub. L. 97-425, 96 Stat. 2262 (42 U.S.C. 10226). Section 55.61 also issued under secs. 186, 187, 68 Stat. 955 (42 U.S.C. 2236, 2237).

§ 55.5 [Amended]

21. In § 55.5(b)(2)(ii), the address for the U.S. Nuclear Regulatory Commission Region II office is amended to read as follows, by removing “101 Marietta Street, Suite 2900, Atlanta, GA 30323” and adding in its place “Sam Nunn Atlanta Federal Center, 61 Forsyth Street, SW., Suite 23T85, Atlanta, GA 30303-8931.”

PART 73—PHYSICAL PROTECTION OF PLANTS AND MATERIALS

22. The authority citation for part 73 continues to read as follows:

Authority: Secs. 53, 161, 68 Stat. 930, 948, as amended, sec. 147, 94 Stat. 780 (42 U.S.C. 2073, 2167, 2201); sec. 201, as amended, 204, 88 Stat. 1242, as amended, 1245, sec. 1701, 106 Stat. 2951, 2952, 2953 (42 U.S.C. 5841, 5844, 2297f).

Section 73.1 also issued under secs. 135, 141, Pub. L. 97-425, 96 Stat. 2232, 2241 (42 U.S.C, 10155, 10161). Section 73.37(f) also issued under sec. 301, Pub. L. 96-295, 94 Stat. 789 (42 U.S.C. 5841 note). Section 73.57 is issued under sec. 606, Pub. L. 99-399, 100 Stat. 876 (42 U.S.C. 2169).

Appendix A to Part 73 [Amended]

23. In the address for the U.S. Nuclear Regulatory Commission's Region II office, under the Address column, add “Sam Nunn” between “USNRC,” and “Atlanta”.

24. The telephone number for the U.S. Nuclear Regulatory Commission's Region III office “(708) 829-9500” is amended to read “(630) 829-9500”.

25. Remove the entry for NRC's Region IV Field Office.

PART 81—STANDARD SPECIFICATIONS FOR THE GRANTING OF PATENT LICENSES

26. The authority citation for part 81 continues to read as follows:

Authority: Secs. 156, 161, 68 Stat. 947, 948, as amended (42 U.S.C. 2186, 2201); sec. 201, 88 Stat. 1242, as amended (42 U.S.C. 5841).

§ 81.8 [Amended]

27. The section heading for § 81.8 is revised to read as follows:

§ 81.8 Information collection requirements: OMB approval.

Dated in Rockville, Maryland, this 10th day of December 2002.
For the Nuclear Regulatory Commission.
Michael T. Lesar,
Chief, Rules and Directives Branch, Division of Administrative Services, Office of Administration.

[FR Doc. 02-31873 Filed 12-18-02; 8:45 am]

BILLING CODE 7590-01-P